DEPARTMENT OF COMMERCE

United States Patent and Trademark Office

Submission for OMB Review; Comment Request; “Pro Bono Survey”

The United States Patent and Trademark Office (USPTO) will submit to the Office of Management and Budget (OMB) for clearance the following proposal for collection of information under the provisions of the Paperwork Reduction Act (44 U.S.C. chapter 35).

Title: Pro Bono Survey.

OMB Control Number: 0651—New.

Form Number(s): N/A.

Type of Request: Regular.

Number of Respondents: 20 respondents providing quarterly responses, for a total of 80 responses per year.

Average Hours per Response: 2 hours.

Burden Hours: 160 hours.

Cost Burden: $65,600.00

Needs and Uses: The Leahy-Smith America Invents Act (AIA), Public Law 112-29 § 32 (2011) directs the USPTO to work with and support intellectual property law associations across the country in the establishment of pro bono programs designed to assist financially under-resourced independent inventors and small businesses. In support of this law, the USPTO, in collaboration with various non-profit organizations, has established a series of autonomous regional hubs that act as matchmakers to help connect low income inventors with volunteer patent attorneys across the United States.

This information collection will ascertain the effectiveness of each individual regional hub with respect to their matchmaking efforts. The USPTO has worked with the Pro Bono Advisory Council (PBAC) to determine what information is necessary to ascertain the effectiveness of each regional pro bono hub's matchmaking operations. PBAC is a well-established group of patent practitioners and patent pro bono regional hub administrators who have committed to provide support and guidance to patent pro bono programs across the country. The USPTO is responsible for the collection of this information, which is collected on a quarterly basis.

Specifically, the information will allow PBAC and the USPTO to ascertain the origination state of applicants, where applicants are being referred from, and what portion of applicants are completing and returning financial screening applications. Additionally the information will help track the number of invention screenings, disqualified applicants, corporations/law firms agreeing to accept cases, backlog of unmatched applicants, hours donated by lawyer referral service panel attorneys, and provisional and non-provisional applications filed, all on a quarterly basis. The information will also allow PBAC and the USPTO to understand program financial information including project cost, and depth of donor support.

The information, at its highest level, will allow PBAC and the USPTO to ascertain whether the regional hubs are matching qualified low income inventors with volunteer patent attorneys. It will also help establish the total economic benefit derived by low-income inventors in the form of donated legal services. This information can then be used to promote the program to under-resourced inventors and patent practitioners.

Affected Public: Not-for-profit institutions.

Frequency: Quarterly.

Respondent's Obligation: Required to Obtain or Maintain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov, John.Kirkpatrick@uspto.gov, or Gautam.Prakash@uspto.gov. Include “Pro Bono Survey copy request” in the subject line of the message.

• Mail: Marcie Lovett, Records Management Division Director, Office of the Chief Information Officer, United States Patent and Trademark Office, P.O. Box 1450, Alexandria, VA 22313-1450.

Written comments and recommendations for the proposed information collection should be sent on or before September 21, 2016 to Nicholas A. Fraser, OMB Desk Officer, via email to Nicholas_A._Fraser@omb.eop.gov, or by fax to 202-395-5167, marked to the attention of Nicholas A. Fraser.

Dated: August 16, 2016.
Marcie Lovett,
Records Management Division Director, USPTO, Office of the Chief Information Officer.

[FR Doc. 2016-19865 Filed 8-19-16; 8:45 am]

BILLING CODE 3510-16-P